DEPARTMENT OF THE INTERIOR

Bureau of Land Management

[L19200000.AL0000.LRORB1518600.LLCAD06000.15X; CACA-56671]

Public Land Order No. 7861; Transfer of Administrative Jurisdiction, Chocolate Mountain Aerial Gunnery Range; California

AGENCY: Bureau of Land Management, Interior.

ACTION: Public Land Order.

SUMMARY: This order transfers administrative jurisdiction of 225,651 acres, more or less, of public lands from the Secretary of the Interior to the Secretary of the Navy for use as part of the Chocolate Mountain Aerial Gunnery Range (CMAGR) in Imperial and Riverside Counties, California. This transfer of administrative jurisdiction is directed by the National Defense Authorization Act for Fiscal Year 2014.

DATES: This Public Land Order is effective on May 2, 2017.

FOR FURTHER INFORMATION CONTACT: Thomas Zale, Bureau of Land Management, El Centro Field Office, 1661 S. 4th Street, El Centro, CA 92243, 760-337-4400. Persons who use a telecommunications device for the deaf (TDD) may call the Federal Relay Service (FRS) at 800-877-8339 to reach the above contact. The FRS is available 24 hours a day, 7 days a week, to leave a message or question with the above individual. You will receive a reply during normal business hours.

SUPPLEMENTARY INFORMATION: In accordance with section 2961 of the National Defense Authorization Act for Fiscal Year 2014, the Bureau of Land Management (BLM) transmits the enclosed Public Land Order (PLO) and associated documents which will effectuate the transfer of administrative jurisdiction over approximately 225,651 acres of withdrawn public lands located in Imperial and Riverside Counties, California to the Department of the Navy (DON) for use as part of the CMAGR to include the lands described in this order.

Order

By virtue of the authority vested in the Secretary of the Interior by Public Law 113-66, 127 Stat. 1040, it is ordered as follows:

1. Subject to valid existing rights, including any property, easements, or improvements held by the Bureau of Reclamation and appurtenant to the Coachella Canal, the administrative jurisdiction of the following described public lands is hereby transferred from the Secretary of the Interior to the Secretary of the Navy to be administered as part of the CMAGR in accordance with the provisions in Public Law 113-66:

San Bernardino Meridian

T.7S., R.12E.,

Sec. 34, lot 9.

T.8S., R.12E.,

Sec. 2, lots 2 thru 5, SW¼, and SE¼;

Sec. 4, lots 5, 8, 9, and 14, and S½;

Sec. 6, lots 24, 25, and 28;

Sec. 8, lots 1 thru 12, and 16, SW¼NE¼, NW¼NW¼, SE¼NW¼, E½SW¼, and SE¼;

Secs. 10, 12, and 14;

Sec. 22, lots 1 thru 14 and 17 thru 23, N½NE¼, SE¼NE¼, SW¼NW¼, N½SW¼, and NE¼SE¼;

Sec. 24, lots 1, 2, and 3, N½, N½SW¼, and SE¼;

Sec. 26, lots 1, 3, 5, 6 thru 12, 16 thru 25, 32, and 33.

T.7S., R.13E.,

Sec. 22, lots 3, 4, 9, and 10, SE¼NE¼, NE¼SW¼, S½SW¼, and SE¼;

Secs. 24 and 26;

Sec. 28, lots 6 and 7, NE¼, S½NW¼, and S½;

Sec. 32, lot 1, NE¼, NE¼NW¼, S½NW¼, and S½;

Sec. 34.

T.8S., R.13E.,

Secs. 2, 4, 6, 8, 10, 12, 14, 18, 20, 22, 24, 26, 28, 30, 32, and 34.

T.9S., R.13E.,

Secs. 2, 4, and 6;

Sec. 8, lots 1 thru 6, N½, and SW¼;

Secs. 10, 12, and 14;

Sec. 18, lot 7;

Sec. 20, lot 1;

Sec. 22, lots 1 thru 4, 6 thru 9, 12 thru 17, and 21, N½NE¼, and N½NW¼;

Sec. 24;

Sec. 26, lots 1 thru 5, 9, 11, 16, 17, and 20, and NE¼NE¼.

T.7S., R.14E.,

Sec. 20, lot 6;

Sec. 26, lots 3, 6, 9, and 12, SE¼SW¼, and S½SE¼;

Sec. 28, lots 3, 6, 9, and 12;

Secs. 30, 32, and 34.

T.8S., R.14E.,

Secs. 2, 4, 6, 8, 10, 12, 14, 18, 20, 22, 24, 26, 28, 30, 32, and 34.

T.9S., R.14E.,

Secs. 2, 4, 6, 8, 10, 12, 14, 18, 20, 22, 24, 26, 28, and 30.

Sec. 32, lots 1 and 5 thru 14, N½, N½SW¼, and N½SE¼;

Sec. 34.

T.10S., R.14E.,

Sec. 2;

Sec. 4, lots 3 thru 18, N½SW¼, SE¼SW¼, W½SE¼, and SE¼SE¼;

Sec. 6, lots 17, 18, 19, 22 thru 25, 27, and 29;

Sec. 8, lots 1 and 4;

Sec. 10, lots 1 thru 9, E½NE¼, NW¼, N½SW¼, SE¼SW¼, and N½SE¼;

Sec. 12;

Sec. 14, lots 1 thru 9, NE¼, E½NW¼, N½SW¼, SE¼SW¼, N½SE¼, and SW¼SE¼;

Sec. 22, lots 1 thru 5, and NW¼NE¼;

Sec. 24, lots 1 thru 5, N½, and SW¼.

T.7S., R.15E.,

Sec. 30, lots 10, 13, 16, and 19;

Sec. 31, S½NE¼SW¼NW¼, unsurveyed, SW¼SW¼NW¼, unsurveyed, N½SE¼NW¼, N½SW¼SE¼NW¼, W½NE¼SE¼SE¼NW¼, NW¼SE¼SE¼NW¼, and N½NW¼NE¼SW¼;

Sec. 32, lots 5, 8, 11, and 14, SW¼NE¼, S½NW¼, and S½;

Sec. 33, lots 13, 16, and 21;

Sec. 34, lots 5 and 8.

T.8S., R.15E.,

Sec. 2, lots 7, 13, 16, and 17;

Secs. 4, 6, 8, and 10;

Sec. 11, lot 7, N½NE¼SE¼NE¼, NW¼SE¼NE¼, NW¼, and E½NE¼SW¼;

Sec. 12, lots 3, 6, 9, and 12, S½NE¼, S½NW¼, and S½;

Secs. 14, 18, 20, 22, 24, 26, 28, 30, 32, and 34.

T.9S., R.15E.,

Secs. 2, and 4;

Sec. 5, N½ of lot 5, N½NW¼ of lot 7, SE¼SW¼ of lot 7, and N½NW¼ of lot 9;

Secs. 6, 8, and 10;

Sec. 11, S½NE¼SW¼ and N½SE¼;

Secs. 12, 14, 18, 20, 22, 24, 26, 28, 30, 32, and 34.

T.10S., R.15E.,

Secs. 2, 4, 6, 8, 10, 12, 14, 18, 20, 22, 24, 26, 28, 30, and 34.

T.11S., R.15E.,

Secs. 2 and 12.

T.8S., R.16E.,

Sec. 8, lots 3, 6, 9, 12, and 15, NW¼SW¼, S½SW¼, and S½SE¼;

Sec. 14, lot 3;

Secs. 18, 20, and 22;

Sec. 24, lot 3;

Secs. 26, 28, 30, 32, and 34.

T.9S., R.16E.,

Secs. 2, 4, 6, 8, and 10;

Sec. 12, lots 1, 2, and 3, NE¼NW¼, and S½NW¼;

Sec. 14, SW¼NE¼, W½, and SE¼;

Secs. 18, 20, 22, 24, 26, 28, 30, 32, and 34.

T.10S., R.16E.,

Secs. 2, 4, 6, 8, 10, 12, 14, 18, 20, 22, and 24;

Sec. 25, S½SW¼ and SW¼SE¼;

Secs. 26, 28, 30, 32, and 34.

T.11S., R.16E.,

Secs. 2, 4, 6, 8, 10, 12, 14, 18, 20, 22, 24, 26, 28, and 34.

T.12S., R.16E.,

Secs. 2 and 12.

T.8S., R.17E.,

Sec. 32, lot 10.

T.9S., R.17E.,

Sec. 6, lots 7, 8, and 17;

Sec. 20, lots 1, 2, and 3;

Sec. 26;

Sec. 28, NE¼NE¼, S½NE¼, and S½;

Secs. 30, 32, and 34.

T.10S., R.17E.,

Secs. 2, 4, 6, 8, 10, 12, 14, 18, 20, 22, 24, 26, 28, 30, 32, and 34.

T.11S., R.17E.,

Secs. 2, 4, 6, 8, 10, 12, 14, 18, 20, 22, 24, 26, 28, 30, 32, and 34.

T.12S., R.17E.,

Secs. 2, 4, 6, 8. 10, 12, 13, and 14;

Sec. 15, S½;

Sec. 17, S½;

Secs. 18, 20 thru 28, and 35.

T.10S., R.18E.,

Secs. 6, 8, 18, 20, 22, 26, 28, 30, 32, and 34.

T.11S., R.18E.,

Secs. 2, 4, 6, 8, 10, 12, 14, 18, 20, 22, 24, 26, 28, 30, 32, and 34.

T.12S., R.18E.,

Secs. 2, 4, 6, 8, 10, 12 thru 15, and 17 thru 35.

T.13S., R.18E.,

Secs. 1 thru 6, all unsurveyed;

Sec. 8, E½;

Secs. 9, 10, and 11, all unsurveyed.

T.10S., R.19E.,

Sec. 32.

T.11S., R.19E.,

Secs. 4, 6, 8, 10, 14, 18, 20, 22, 26, 28, 30, 32, and 34.

T.12S., R.19E.,

Secs. 2, 4, 6, 8, and 10;

Sec. 15, S½;

Sec. 17, S½;

Secs. 18 thru 22 and 27 thru 34.

The area described aggregates 225,651 acres, more or less, in Imperial and Riverside Counties, California.

Dated: April 26, 2017.
Ryan K. Zinke,
Secretary of the Interior.

[FR Doc. 2017-08853 Filed 5-1-17; 8:45 am]

BILLING CODE 4310-40-P